DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Economic Analysis of Shoreline Treatment Options for Coastal New Hampshire.

OMB Control Number: 0648-xxxx.

Form Number(s): None.

Type of Request: Regular (new collection).

Number of Respondents: 4,633.

Average Hours per Response: 0.27.

Burden Hours: 1,248.

Needs and Uses: This request is for a pretest of a new data collection to benefit the National Oceanic and Atmospheric Administration (NOAA), Office of Coastal Management (OCM), and decision-makers on the state and local level in New Hampshire. The New Hampshire Coastal Program (NHCP) has prioritized living shoreline assessment and implementation in its five-year strategy to enhance coastal management (309 Strategy, 2015) and set a long-term goal to develop a Coastal Shoreline Management Plan (CSMP) for New Hampshire. NOAA will collect social, economic, and behavioral data pursuant to the Coastal Zone Management Act (CZMA).

Questions will explore such issues as familiarity with weather and climate effects and adaptation methods, place attachment, and opinions on shoreline treatment options. The final collection will support the development of a CSMP for New Hampshire, provide information to help inform local coastal zone management and planning, and establish a baseline for future monitoring of NOAA's success in meeting its mandates and obligations.

Affected Public: Individuals and households.

Frequency: One time.

Respondent's Obligation: Voluntary.

This information collection request may be viewed at reginfo.gov. Follow the instructions to view Department of Commerce collections currently under review by OMB.

Written comments and recommendations for the proposed information collection should be sent within 30 days of publication of this notice to OIRA_Submission@omb.eop.gov or fax to (202) 395-5806.

Sheleen Dumas,
Departmental Lead PRA Officer, Office of the Chief Information Officer, Commerce Department.

[FR Doc. 2019-11638 Filed 6-4-19; 8:45 am]

BILLING CODE 3510-22-P